Proclamation 8682 of May 23, 2011

To Modify the Rules of Origin for the United States-Singapore Free Trade Agreement, and for Other Purposes

By the President of the United States of America

A Proclamation

1. On May 6, 2003, the President entered into the United States-Singapore Free Trade Agreement (USSFTA). The USSFTA was approved by the Congress in section 101(a) of the United States-Singapore Free Trade Agreement Implementation Act (the “USSFTA Act”) (Public Law 108-78, 117 Stat. 948) (19 U.S.C. 3805 note).

2. Presidential Proclamation 7747 of December 30, 2003, implemented the USSFTA with respect to the United States and, pursuant to the USSFTA Act, incorporated in the Harmonized Tariff Schedule of the United States (HTS) the tariff modifications and rules of origin necessary or appropriate to carry out the USSFTA.

3. Section 202 of the USSFTA Act provides rules for determining whether goods imported into the United States originate in the territory of a USSFTA Party and thus are eligible for the tariff and other treatment contemplated under the USSFTA. Section 202(o) authorizes the President to proclaim, as part of the HTS, the rules of origin set out in the USSFTA and to proclaim modifications to previously proclaimed rules of origin, subject to the consultation and layover requirements of section 103(a) of the USSFTA Act.

4. The United States and Singapore have agreed to modify the USSFTA rules of origin by adding certain rules of origin. I have determined that modification of the USSFTA rules of origin set forth in Proclamation 7747 is therefore necessary.

5. On July 24, 2010, in accordance with section 103(a) of the USSFTA Act, the United States Trade Representative submitted a report to the Committee on Ways and Means of the House of Representatives and the Committee on Finance of the Senate that set forth the proposed modifications to the USSFTA rules of origin. The consultation and layover period specified in section 103(a) expired on November 22, 2010.

6. Presidential Proclamation 8097 of December 29, 2006, modified the HTS pursuant to section 1206 of the Omnibus Trade and Competitiveness Act of 1988 (19 U.S.C. 3006) to conform the HTS to amendments to the International Convention on the Harmonized Commodity Description and Coding System.

7. Presidential Proclamation 8214 of December 27, 2007, modified the HTS, including adjustments to rules of origin under the USSFTA to ensure that the tariff and certain other treatment accorded originating goods of Singapore under tariff categories modified in Proclamation 8097 continued, and to carry out the duty reductions proclaimed in Proclamation 7747. A rule of origin was inadvertently omitted from general note 25 of the HTS. I have determined that a technical correction to general note 25 to the HTS is necessary to provide for the intended tariff and certain other treatment accorded under the USSFTA to originating goods of Singapore.

8. On April 12, 2006, the United States entered into the United States-Peru Trade Promotion Agreement (USPTPA), and on June 24 and June 25, 2007, the Parties to the USPTPA signed a protocol amending the USPTPA. The Congress approved the USPTPA as amended in section 101(a) of the United States-Peru Trade Promotion Agreement Implementation Act (the “USPTPA Act”) (Public Law 110-138, 121 Stat. 1455) (19 U.S.C. 3805 note).

9. Section 201 of the USPTPA Act authorizes the President to proclaim such modifications or continuation of any duty, such continuation of duty-free or excise treatment, or such additional duties, as the President determines to be necessary or appropriate to carry out or apply Articles 2.3, 2.5, 2.6, 3.3.13 and Annex 2.3 of the USPTPA.

10. U.S. General Note 5 to Annex 2.3 of the USPTPA provides that originating goods of Peru shall not be subject to any duty provided for in heading 9901 of the HTS, provided that certain conditions specified in that note are met.

11. Pursuant to section 201 of the USPTPA Act, I have determined that modifications to the HTS are necessary to carry out U.S. General Note 5 to Annex 2.3 of the USPTPA.

12. Presidential Proclamation 6641 of December 15, 1993, implemented the North American Free Trade Agreement (NAFTA) with respect to the United States and, pursuant to the North American Free Trade Agreement Implementation Act (the “NAFTA Act”) (Public Law 103-182, 107 Stat. 2057), incorporated in the HTS the schedule of duty reductions and rules of origin necessary or appropriate to carry out the NAFTA.

13. Section 202 of the NAFTA Act (19 U.S.C. 3332) provides rules for determining whether goods imported into the United States originate in a NAFTA Party and thus are eligible for the tariff and other treatment contemplated under the NAFTA.

14. Presidential Proclamation 8405 of August 31, 2009, modified the HTS, including adjustments to rules of origin under the NAFTA, to ensure that the tariff and certain other treatment accorded originating goods of Canada and Mexico under tariff categories modified in Proclamation 8097 continued. Two technical errors were made in the modifications to general note 12 to the HTS. I have determined that technical corrections to general note 12 to the HTS are necessary to provide for the intended tariff and certain other treatment accorded under the NAFTA to originating goods.

15. Presidential Proclamation 8536 of June 12, 2010, made technical corrections to certain rules of origin under the NAFTA. Two additional errors in general note 12 were not corrected in that proclamation. I have determined that further technical corrections to general note 12 are necessary to provide the tariff and certain other treatment accorded under the NAFTA to originating goods.

16. Section 604 of the Trade Act of 1974, as amended (19 U.S.C. 2483), authorizes the President to embody in the HTS the substance of the relevant provisions of that Act, and of other Acts, affecting import treatment, and actions thereunder, including the removal, modification, continuance, or imposition of any rate of duty or other import restriction.

NOW, THEREFORE, I, BARACK OBAMA, President of the United States of America, by virtue of the authority vested in me by the Constitution and the laws of the United States of America, including section 202 of the USSFTA Act, section 201 of the USPTPA Act, and section 604 of the Trade Act of 1974, do proclaim that:

(1) In order to modify the rules of origin under the USSFTA, general note 25 to the HTS is modified as provided in Annex I to this proclamation.

(2) The modifications made by section A of Annex I to this proclamation shall be effective with respect to goods of Singapore that are entered, or withdrawn from warehouse for consumption, on or after May 24, 2011.

(3) The modification made by section B of Annex I to this proclamation shall be effective with respect to goods of Singapore that are entered, or withdrawn from warehouse for consumption, on or after February 7, 2008.

(4) In order to implement certain provisions of Annex 2.3 of the USPTPA, the HTS is modified as provided in Annex II to this proclamation.

(5) The modifications made by Annex II to this proclamation shall be effective with respect to originating goods of Peru entered, or withdrawn from warehouse for consumption, on or after January 1, 2011.

(6) In order to make technical corrections necessary to provide the intended rules of origin under the NAFTA, the HTS is modified as set forth in Annex III to this proclamation.

(7) The modifications to the HTS set forth in Annex III to this proclamation shall be effective with respect to articles entered, or withdrawn from warehouse for consumption, on or after October 2, 2009.

(8) Any provisions of previous proclamations and Executive Orders that are inconsistent with the actions taken in this proclamation are superseded to the extent of such inconsistency.

IN WITNESS WHEREOF, I have hereunto set my hand this twenty-third day of May, in the year of our Lord two thousand eleven, and of the Independence of the United States of America the two hundred and thirty-fifth.

BILLING CODE 3195-W1-P

[FR Doc. 2011-13171

Filed 5-24-11; 11:15 am]

BILLING CODE 7020-02-C